DEPARTMENT OF HEALTH AND HUMAN SERVICES

National Institutes of Health

Clinical Center; Notice of Closed Meeting

Pursuant to section 10(d) of the Federal Advisory Committee Act, as amended, notice is hereby given of a meeting of the Board of Scientific Counselors of the NIH Clinical Center.

The meeting will be closed to the public as indicated below in accordance with the provisions set forth in section 552b(c)(6), Title 5 U.S.C., as amended for the review, discussion, and evaluation of individual intramural programs and projects conducted by the CLINICAL CENTER, including consideration of personnel qualifications and performance, and the competence of individual investigators, the disclosure of which would constitute a clearly unwarranted invasion of personal privacy.

Name of Committee: Board of Scientific Counselors of the NIH Clinical Center Board meeting.

Date: June 15, 2018.

Time: 8:00 a.m. to 4:00 p.m.

Agenda: To review and evaluate reports and responses to the following Clinic Center's Departments: Rehabilitation Medicine, Bioethics, Critical Care Medicine, Imaging Sciences, Transfusion Medicine, Laboratory Medicine, Nursing, and Pediatrics.

Place: National Institutes of Health, Building 10, 10 Center Drive, Bethesda, MD 20892.

Contact Person: John I. Gallin, M.D., Associate Director for Clinical Research, Office of Director, NIH Clinical Center, 1 Center Drive, Room 201, Bethesda, MD 20892, 301-827-5428.

Any interested person may file written comments with the committee by forwarding the statement to the Contact Person listed on this notice. The statement should include the name, address, telephone number and when applicable, the business or professional affiliation of the interested person.

Dated: May 18, 2018.
Michelle D. Trout,
Program Analyst, Office of Federal Advisory Committee Policy.

[FR Doc. 2018-11212 Filed 5-24-18; 8:45 am]

BILLING CODE 4140-01-P